DEPARTMENT OF HOMELAND SECURITY

Federal Emergency Management Agency

44 CFR Part 67

[Docket ID FEMA-2008-0020; Internal Agency Docket No. FEMA-B-1022]

Proposed Flood Elevation Determinations

AGENCY: Federal Emergency Management Agency, DHS.

ACTION: Proposed rule; correction.

SUMMARY: On December 9, 2008, FEMA published in the Federal Register a Proposed rule that contained an erroneous table. This notice provides corrections to that table, to be used in lieu of the information published at 73 FR 74673. The table provided here represents the flooding source, location of referenced elevation, effective and modified elevation, and communities affected for the City of Mosinee, City of Schofield, City of Wausau, Village of Kronenwetter, Village of Rothschild and the Unincorporated Areas of Marathon County, Wisconsin. Specifically, it addresses flooding sources Bull Junior Creek, Eau Claire River and Wisconsin River.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) publishes Proposed determinations of Base (1% annual-chance) Flood Elevations (BFEs) and modified BFEs for communities participating in the National Flood Insurance Program (NFIP), in accordance with section 110 of the Flood Disaster Protection Act of 1973, 42 U.S.C. 4104, and 44 CFR 67.4(a).

These Proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These Proposed elevations are used to meet the floodplain management requirements of the NFIP and are also used to calculate the appropriate flood insurance premium rates for new buildings built after these elevations are made final, and for the contents in these buildings.

Correction

In the Proposed rule published at 73 FR 74673, in the December 9, 2008 issue of the Federal Register, FEMA published a table under the authority of 44 CFR 67.4. The table, entitled “Marathon County, Wyoming and Incorporated Areas” addressed flooding sources Bull Junior Creek, Eau Claire River and Wisconsin River. That table contained inaccurate information as to the location of referenced elevation, effective and modified elevation in feet, or communities affected for these flooding sources. In this notice, FEMA is publishing a table containing the accurate information, to address these prior errors. The information provided below should be used in lieu of that previously published.

Flooding sources | Location of referenced elevation | * Elevation in feet (NGVD) + Elevation in feet (NAVD) # Depth in feet above ground: Effective | * Elevation in feet (NGVD) + Elevation in feet (NAVD) # Depth in feet above ground: Modified | Communities affected
Marathon County, Wisconsin, and Incorporated Areas
Bull Junior Creek | At the mouth of the Wisconsin River | +1150 | +1147 | City of Mosinee.
| Approximately 450 feet downstream of Old U.S. Highway 51 | +1150 | +1149
Eau Claire River | At Brooks and Ross Dam | +1167 | +1168 | City of Schofield, City of Wausau.
| Approximately 1.1 miles upstream of Brooks and Ross Dam | +1171 | +1169
Wisconsin River | Just upstream of the Dam in the City of Mosinee | +1150 | +1147 | Unincorporated Areas of Marathon County, City of Mosinee, Villate of Kronenwetter, Village of Rothschild.
| Just downstream of Rothschild Dam | +1160 | +1159

Dated: December 22, 2008.
Michael K. Buckley,
Acting Assistant Administrator, Mitigation Directorate, Department of Homeland Security, Federal Emergency Management Agency.

[FR Doc. E8-31283 Filed 1-2-09; 8:45 am]

BILLING CODE 9110-12-P